DEPARTMENT OF HOMELAND SECURITY

U.S. Citizenship and Immigration Services

[CIS No. 2723-22; DHS Docket No. USCIS-2022-0011]

Trial Testing of Redesigned Naturalization Test for Naturalization Applications

AGENCY: U.S. Citizenship and Immigration Services, Department of Homeland Security.

ACTION: Notice of trial testing of redesigned naturalization test.

SUMMARY: This notice announces that U.S. Citizenship and Immigration Services (USCIS) will conduct a nationwide trial of planned changes to the naturalization test. The naturalization test is comprised of the civics test that evaluates a knowledge and understanding of the fundamentals of U.S. history and of the principles and form of U.S. government, as well as tests that evaluate an individual's understanding of the English language. USCIS will conduct a trial of both a standardized English-speaking test as part of the requirement to demonstrate an understanding of the English language and a civics test with updated content and format. The trial testing does not include the reading or writing portions of the test. USCIS will conduct the trial with volunteer community-based organizations (CBOs) that work with immigrant English language learners and lawful permanent residents (LPRs) preparing for naturalization. Participating in the trial is completely voluntary for organizations and students, and any test taken during, or as part of, the trial will not affect any naturalization application that may be submitted to USCIS during the trial testing period. USCIS may use the results to support changes to the naturalization test which USCIS would also announce through a different Federal Register notice.

DATES: USCIS will conduct an initial virtual engagement to introduce the trial testing on January 12, 2023. USCIS will announce additional national engagements on the USCIS Citizenship Resource Center available at https://www.uscis.gov/citizenship. During these engagements, USCIS invites all interested parties to submit written data, views, comments, and arguments on all aspects of this trial testing. Comments may also be submitted to natzredesign22@uscis.dhs.gov.

FOR FURTHER INFORMATION CONTACT: Mary Flores, Office of Citizenship, U.S. Citizenship and Immigration Services, DHS, 5900 Capital Gateway Drive, Camp Springs, MD 20746; telephone 240-721-1940 (this is not a toll-free number) or email natzredesign22@uscis.dhs.gov.

SUPPLEMENTARY INFORMATION:

Background

Under section 312(a)(1) of the Immigration and Nationality Act (“the Act”), 8 U.S.C. 1423(a)(1), most applicants seeking to naturalize must demonstrate an understanding of the English language including an ability to speak, read, and write words in ordinary usage (English language requirements). Additionally, under section 312(a)(2) of the Act, 8 U.S.C. 1423(a)(2), most applicants seeking to naturalize must demonstrate a knowledge and understanding of the fundamentals of U.S. history and of the principles and form of government in the United States (civics requirements). Under 8 CFR 312.1(c) and 312.2(c), an applicant for naturalization may satisfy these requirements by passing an examination (naturalization test). Certain applicants may be exempt from the English language requirements and civics requirements if they either meet specific age and time as LPR thresholds, or if they cannot comply with the English language requirements or the civics requirements, or both, because of a physical or developmental disability or mental impairment. See section 312 of the Act, 8 U.S.C. 1422.

In 1997, the U.S. Commission on Immigration Reform (the Commission) recommended that the former Immigration and Naturalization Service (INS) ¹ standardize the naturalization testing process. The Commission recommended that the naturalization tests be revised to better determine if applicants have a meaningful knowledge of U.S. history and government and can communicate in English. Also in 1997, the Department of Justice (DOJ) began to reengineer the naturalization process. For naturalization testing, DOJ determined that the former INS should develop a uniform approach to testing, including standard and meaningful test content, standardized testing instruments and protocols, standard scoring, and standard levels of passing. The former INS began to redesign the testing process with a goal of developing a new process that would be uniform, fair, and meaningful. On December 26, 2000, former INS issued “Policy Memorandum No. 73: Standardization of Procedures for Testing Naturalization Applicants on English and Civics” to guide the testing procedures for the English and civics components of the naturalization test and to announce plans to redesign the test.²

¹ On March 1, 2003, INS transferred from the Department of Justice (DOJ) to the Department of Homeland Security (DHS), pursuant to the Homeland Security Act of 2002 (Pub. L. 107-296). INS' adjudication functions involving naturalization and citizenship transferred to USCIS.

² For a copy of the 2000 memo please see docket USCIS-2022-0011 on regulations.gov.

In 2003, USCIS began redesigning the current naturalization test, which was fully implemented in October 2009 and is the test currently administered to all naturalization applicants. See Current Testing Procedures below for description. At the time, USCIS standardized only the reading, writing, and civics tests. The English-speaking test was not standardized.³

³ USCIS worked to revise the speaking test as part of this initiative, but ultimately decided not to implement it for several reasons, including the anticipated cost to provide more translation services for naturalization interviews.

On November 13, 2020, USCIS announced ⁴ a revised civics test.⁵ This revised test required applicants to answer 12 out of 20 questions correctly (60%) in order to pass and had a bank of 125 questions from which to study. USCIS maintained the statutorily established special considerations for applicants who are 65 years old or older and have at least 20 years of lawful permanent resident status. These applicants were required to answer six out of ten questions correctly to pass. In February 2021, in response to the public's comments on the 2020 revised civics test and in keeping with the Executive Order on Restoring Faith in Our Legal Immigration Systems and Strengthening Integration and Inclusion Efforts for New Americans,⁶ USCIS announced that it would revert to the previous 2008 version of the test.⁷

⁴ See USCIS Announces a Revised Naturalization Civics Test (November 13, 2020), available at https://www.uscis.gov/news/news-releases/uscis-announces-a-revised-naturalization-civics-test.

⁵ See also USCIS Memorandum, L. Francis Cissna, Revision of the Naturalization Civics Test (May 3, 2019), available at https://www.uscis.gov/sites/default/files/document/memos/Revision_of_the_Naturalization_Civics_Test_D1_Signed_5-3-19.pdf.

⁶ See Executive Order 14012 (February 2, 2021), available at https://www.govinfo.gov/content/pkg/FR-2021-02-05/pdf/2021-02563.pdf.

⁷ See Policy Alert, Revising Guidance on Naturalization Civics Education Requirements (February 22, 2021), available at https://www.uscis.gov/sites/default/files/document/policy-manual-updates/20210222-CivicsTest.pdf.

Current Testing Procedures

Currently, the speaking test is determined by the applicant's answers to questions typically asked by an officer during the naturalization eligibility interview. The questions asked are taken from the Form N-400, Application for Naturalization (Form N-400). During the interview, the officer reviews the applicant's responses to the questions in the Form N-400 for accuracy. The applicant may respond with simple words or phrases.⁸

⁸ See USCIS Policy Manual, Volume 12, Citizenship and Naturalization, Part E, English and Civics Testing and Exceptions, Chapter 2, English and Civics Testing [12 USCIS-PM E.2], available at https://www.uscis.gov/policy-manual/volume-12-part-e-chapter-2.

There is also an overarching test to evaluate an applicant's ability to understand the English language. If the applicant understands and responds to questions, directions, or prompts during the naturalization interview, then the applicant demonstrates the ability to understand English. USCIS officers are required to repeat and rephrase questions until they are satisfied that the applicant either fully understands the question or does not understand English. The applicant is not required to provide a definition of a word or phrase found in Form N-400 to establish understanding of the English language.⁹

⁹ See Scoring Guidelines for the U.S. Naturalization Test available at https://www.uscis.gov/sites/default/files/document/guides/Test_Scoring_Guidelines.pdf (last updated December 14, 2021).

USCIS also evaluates a naturalization applicant's ability to understand the English language, specifically the ability to read and write words in ordinary usage in the English language, through a standardized test in which the applicant must read and write, respectively, one out of three items correctly to demonstrate the ability. An applicant passes the reading test if the applicant reads aloud one of the three sentences without extended pauses in a way that the applicant can convey the meaning of the sentence and the officer can understand the sentence. The applicant passes the writing test if the applicant can convey the meaning of one of the three sentences to the officer. The applicant can establish the ability to write even if the writing sample contains some grammatical, spelling, or capitalization errors; omitted short words that do not interfere with meaning; or numbers spelled out or written as digits.

An applicant for naturalization who is required to take the civics test must answer six of the ten civics questions correctly to pass the test. A USCIS system randomly selects the test questions, and an officer administers the test orally. The officer stops the test when the applicant correctly answers the minimum number of questions required to pass the test. Applicants pass the civics test when they provide a correct answer or provide an alternative phrasing of the correct answer for six of the ten questions from a test bank of 100 items.

Revising the Tests and Testing Procedures

USCIS is developing the trial test for the naturalization test redesign in response to feedback that USCIS received from stakeholders about the standardization and structure of the naturalization test. USCIS is conducting the trial as part of its effort to redesign the naturalization test to better ensure that the English-speaking part of the English Language requirements is standardized and sufficiently tests the ability to understand words in ordinary usage in the English language. Further, during the trial testing, USCIS would be assessing the understanding of English through the questions or prompts given with the speaking test instead of using the interview questions and Form N-400. However, in the trial testing, USCIS would not assess the understanding of English as part of the reading and writing portions of the naturalization test.

USCIS is not conducting a trial on the current English reading and writing tests because these tests are already standardized and USCIS believes they sufficiently test the ability to read and write words in ordinary usage in the English language, respectively. Furthermore, USCIS is conducting the trial to update the civics test content to reflect current best practices in test design and to redesign the civics test into a multiple-choice format. Once internal and external subject matter experts collect, evaluate, and consider all the information from the trial, USCIS will finalize a redesigned test and notify the public through a subsequent Federal Register Notice.

Naturalization Test Redesign Initiative

USCIS expects the Naturalization Test Redesign Initiative to take approximately two years and be ready for implementation by late 2024. The trial test period is expected to run for a five-month period in 2023. An integral part of the Naturalization Test Redesign Initiative is trial testing because it allows USCIS to determine the suitability of the new test content and use data to refine test content.

Before the trial test, USCIS will develop a bank of speaking and civics test items. USCIS expects to announce the call for contract bids to facilitate a Technical Advisory Group (TAG) by early 2023. The TAG will be comprised of external subject matter experts from the field of language acquisition, U.S. history and civics, and test development who will assist with the redesign initiative by reviewing trial test data and making recommendations as part of the process for finalizing the bank of speaking and civics test items. TAG members may make various recommendations about the tests to include language level and content. USCIS will make final determinations of which test items will be included in the final test bank.

After the trial test period, the TAG will review the data and provide recommendations on suitability of items and a review of educational materials for the new test. USCIS will use the recommendations and trial test data to develop the final test item banks which USCIS would announce through a Federal Register Notice.

Trial Testing

USCIS will conduct the trial with volunteer CBOs nationwide that work with adult English language learners and LPRs preparing for naturalization. Students at these organizations will be taking classes in English as a second language (ESL) or preparing for the naturalization test, or both. Volunteer CBOs must be nonprofits conducting ESL or citizenship education classes at the time of the trial. Adult students enrolled in classes may choose to participate or withdraw from the trial at any time.

Participating in the civics trial test and the speaking trial test is completely voluntary for organizations and students. The trial test is not part of an applicant's naturalization application. Therefore, tests taken during, or as part of, the trial test will not count as or against any of the two chances to pass the naturalization tests for any naturalization application that may be submitted to USCIS. Applicants who file Form N-400 will continue to take the current naturalization test and not the trial test.

Students will answer questions from three sections during the trial: Demographic Information, Speaking Test Items, and Civics Test Items. Volunteer adult students will answer the following four demographic questions with the help of their instructor:

• National Reporting System (NRS) ESL Level;

• Country of Origin;

• Primary Language Spoken at Home;

• Location; and

• Age Range.

USCIS will not collect personally identifiable information and will use the demographic information only for analysis.

Trial Speaking Test

As part of the speaking test trial, volunteer students will look at three color photographs, which they will be asked to describe. USCIS will continue to provide reasonable accommodations for applicants with disabilities. Applicants will respond to three color photographs randomly selected from a bank of approximately 70 images that directly correspond to an ordinary usage scenario, such as daily activities, the weather, or food. The bank of images will be developed by selecting photographs that clearly depict a scenario.

The content areas for the types of photographs that would be used during the speaking test have been derived from topics and situations an English language learner may encounter in everyday life. These content areas can be commonly found in adult ESL textbooks and adult language assessments.¹⁰ These content areas are subject to change during the trial. After the trial, the image bank will be refined to a bank of approximately 40 images for implementation. Applicants will be scored on the ability to respond in English using vocabulary and simple phrases that are relevant to the image.

¹⁰ For example of content on ESL assessments, see ETS TOEIC https://www.ets.org/s/toeic/pdf/examinee-handbook-for-toeic-listening-reading-test-updated.pdf and Center for Applied Linguistics Best Plus 2.0 https://www.cal.org/adultspeak/BPslideshow/bestplus.html.

Trial Civics Test

During the trial, students will answer ten multiple-choice civics questions and select the one best answer from the four choices presented. USCIS decided to trial test multiple choice test questions to be consistent with the industry standard and best practice and increase standardization of test questions. Much of the trial civics content will be familiar to adult citizenship students and will be similar to the current civics test content. The trial test will also contain new test items based on a design framework that includes an external review by subject matter experts in the field of test development.¹¹ Applicants will read civics test items that will be displayed on a tablet and choose the one best response from the potential answers displayed.

¹¹ USCIS is developing a statement of work to contract with external subject matter experts to form a Technical Advisory Group (TAG).

Volunteer Community-Based Organization Selection

In 2023, USCIS will ask CBOs to contact the Office of Citizenship (OoC) if they wish to participate in the trial testing. CBOs must be active in providing ESL or citizenship classes, or both, during the trial testing and be designated as a nonprofit under Internal Revenue Code section 501(c)(3).

Instructors at the volunteer CBOs must be willing to incorporate USCIS-provided educational handouts on the trial test items in their curricula and attend virtual trainings and webinars on the trial protocols. Instructors at CBOs will ask their students to volunteer in the trial. Students must be enrolled in an ESL or citizenship class at the time of the trial. Students may choose to participate or not participate in the trial at any time.

USCIS will seek approximately 1,500 individuals who are enrolled in adult education classes as the sample size for the trial test consistent with the standard practices in the field of English as a second language (ESL) testing.¹² The trial test is tentatively scheduled to take place during a five-month period in 2023. USCIS will announce the request for volunteer CBOs on the USCIS Citizenship Resource Center available at https://www.uscis.gov/citizenship in the months preceding the trial test period. CBOs who are interested in volunteering for the trial test may request more information by emailing natzredesign22@uscis.dhs.gov.

¹² American Educational Research Association, American Psychological Association, & The National Council on Measurement in Education. Standards for Educational and Psychological Testing. (Washington, DC: American Educational Research Association, 2014), pp 44-45 (Standards 3.8 & 3.9). See https://www.testingstandards.net/uploads/7/6/6/4/76643089/standards_2014edition.pdf.

Public Engagement

In advance of obtaining volunteers for the trial testing, USCIS will also conduct national engagements for interested CBOs. National engagements will be announced on the USCIS Citizenship Resource Center available at https://www.uscis.gov/citizenship. These engagements will include a review of each step taken in the process and progress of each step.

The first engagement to introduce the trial testing will be held virtually on January 12, 2023. Further, throughout the trial testing and redesign period, USCIS will conduct several in-person engagements in conjunction with scheduled adult citizenship education trainings and virtual stakeholder engagements every quarter.¹³

¹³ See USCIS Upcoming Teacher Trainings available at https://www.uscis.gov/citizenship/resources-for-educational-programs/register-for-training.

During these engagements, USCIS invites all interested parties to submit written data, views, comments, and arguments on all aspects of this trial testing. Comments may also be submitted to natzredesign22@uscis.dhs.gov. Comments must be submitted in English, or an English translation must be provided.

Ur M. Jaddou,
Director, U.S. Citizenship and Immigration Services, Department of Homeland Security.

[FR Doc. 2022-27178 Filed 12-14-22; 8:45 am]

BILLING CODE 9111-97-P